DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Logbook Family of Forms.

OMB Control Number: 0648-0016.

Form Number(s): None.

Type of Request: Regular (extension of a current information collection).

Number of Respondents: 3,634.

Average Hours per Response: Annual fixed-cost reports, 30 minutes; Colombian fishery logbooks, 18 minutes; discard logbooks, 15 minutes; headboat, golden crab, reef fish-mackerel, economic cost/trip, wreckfish, and shrimp logbooks, 10 minutes; no-fishing responses for golden crab, reef fish-mackerel, charterboat, wreckfish and Colombian fisheries, 2 minutes.

Burden Hours: 17,038.

Needs and Uses: This request is for extension of a current information collection.

Participants in most Federally-managed fisheries in the Southeast Region are currently required to keep and submit catch and effort logbooks from their fishing trips. A subset of these vessels also provide information on the species and quantities of fish, shellfish, marine turtles, and marine mammals that are caught and discarded or have interacted with the vessel's fishing gear. A subset of these vessels also provide information about dockside prices, trip operating costs, and annual fixed costs.

The data are used for scientific analyses that support critical conservation and management decisions made by national and international fishery management organizations. Interaction reports are needed for fishery management planning and to help protect endangered species and marine mammals. Price and cost data will be used in analyses of the economic effects of proposed regulations.

Affected Public: Business or other for-profit organizations; individuals or households.

Frequency: Annually and per fishing trip.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 9, 2016.
Sarah Brabson,
NOAA PRA Clearance Officer.

[FR Doc. 2016-19289 Filed 8-12-16; 8:45 am]

BILLING CODE 3510-22-P